DEPARTMENT OF COMMERCE

National Oceanic and Atmospheric Administration

[I.D. 090904D]

Pacific Fishery Management Council; Public Meetings

AGENCY: National Marine Fisheries Service (NMFS), National Oceanic and Atmospheric Administration (NOAA), Commerce.

ACTION: Notice of public meeting.

SUMMARY: The Pacific Fishery Management Council's (Council) Ad Hoc Channel Islands Marine Reserve Committee (CIMRC) will hold a work session to consider information related to proposed marine reserves and marine conservation areas within Channel Islands National Marine Sanctuary (CINMS) and to develop recommendations for the Council. The work session is open to the public.

DATES: The CIMRC will meet Tuesday, October 5, 2004 from 10 a.m. to 5 p.m. and Wednesday, October 6, 2004 from 9 a.m. until business for the day is completed.

ADDRESSES: The meeting will be held at The Benson Hotel, 309 SW Broadway, Portland, OR 97205; telephone: 503-228-2000.

Council address: Pacific Fishery Management Council, 7700 NE Ambassador Place, Suite 200, Portland, OR 97220-1384.

FOR FURTHER INFORMATION CONTACT: Mr. Dan Waldeck, Pacific Fishery Management Council; telephone: 503-820-2280.

SUPPLEMENTARY INFORMATION: The purpose of the meeting will be to review the Staff Preliminary Working Draft Document for Consideration of a Network of Marine Reserves and Marine Conservation Areas within the Channel Islands National Marine Sanctuary (CINMS), receive reports from Council advisory subpanels, Enforcement Consultants, Habitat Committee, and Scientific and Statistical Committee. Based on their review and advisory committee reports, the CIMRC will develop recommendations for the Council's November 2004 meeting. CINMS and National Oceanic and Atmospheric Administration staff involved with the development of the draft document will be available for discussions with the CIMRC.

At the November 2004 Council meeting, it is anticipated the Council would be scheduled to review the comments of the advisory bodies and public and provide formal comment to CINMS for completing the range of alternatives and analytical elements of a draft environmental impact statement for proposed marine reserves and marine conservation areas within CINMS.

More information about the proposed CINMS project and draft document is available at: http://www.cinms.nos.noaa.gov/marineres/enviro_review.html

This is a public meeting, and time for public comment will be provided at the discretion of the committee chair. Generally, a public comment period will be provided just prior to the end of each day. Please note, this is not a public hearing, rather it is a work session to develop information for Council consideration.

Although non-emergency issues not contained in the meeting agenda may come before the CIMRC for discussion, those issues may not be the subject of formal action during this meeting. Action will be restricted to those issues specifically listed in this document and any issues arising after publication of this document that require emergency action under Section 305(c) of the Magnuson-Stevens Fishery Conservation and Management Act, provided the public has been notified of the CIMRC's intent to take final action to address the emergency.

Special Accommodations

The meeting is physically accessible to people with disabilities. Requests for sign language interpretation or other auxiliary aids should be directed to Ms. Carolyn Porter at 503-820-2280 at least 5 days prior to the meeting date.

Dated: September 15, 2004.
Alan D. Risenhoover,
Acting Director, Office of Sustainable Fisheries, National Marine Fisheries Service.

[FR Doc. E4-2241 Filed 9-17-04; 8:45 am]

BILLING CODE 3510-22-S